DEPARTMENT OF THE TREASURY

Agency Information Collection Activities; Submission for OMB Review; Comment Request; Community Development Financial Institutions (CDFI) Program and Native American CDFI Assistance (NACA) Program Applications

AGENCY: Departmental Offices, Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before October 23, 2023 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Community Development Financial Institutions Fund (CDFI Fund)

Title: CDFI Program and NACA Program Applications.

OMB Control Number: 1559-0021.

Type of Review: Reinstatement of a previously approved collection.

Description: Pursuant to the Riegle Community Development Banking and Financial Institutions Act of 1994, as amended (the Act, 12 U.S.C. 4701 et seq.), the Community Development Financial Institutions (CDFI) Program provides financial and technical assistance to selected Applicants and Community Development Financial Institutions (CDFIs) in order to enhance their ability to make loans and investments and provide services for the benefit of designated Investment Areas and Targeted Populations.

The Application questions for the CDFI Fund's Community Development Financial Institutions Program (CDFI Program) and Native American CDFI Assistance Program (NACA Program) Financial Assistance (FA) and Technical Assistance (TA) programs have been modified to reflect public comments received through the request for public comment as required by the Paperwork Reduction Act (PRA). The revised FA Application includes the Base-FA Application as well as the following Applications for awards that are provided as supplemental to the Base-FA award: Persistent Poverty County Financial Assistance (PPC-FA), Healthy Food Financing Initiative-Financial Assistance (HFFI-FA), and Disability Funds-Financial Assistance (DF-FA). The supplemental Applications are only completed if the Applicant is requesting those specific funds.

Forms: FA Application, TA Application, PPC-FA, HFFI-FA and DF-FA.

Affected Public: Businesses or other for-profit institutions, non-profit entities, and State, local and Tribal entities participating in CDFI Fund programs.

Frequency of Response: Annually.

Estimated Number of Respondents for Financial Assistance: 458.

Estimated Annual Time per Respondent for Financial Assistance including optional questions: 122 hours.

Estimated Total Annual Burden Hours for Financial Assistance: 55,759.

Estimated Number of Respondents for Technical Assistance: 261.

Estimated Annual Time per Respondent for Technical Assistance: 85 hours.

Estimated Total Annual Burden Hours for Technical Assistance: 22,185.

Authority: 44 U.S.C. 3501 et seq.

Spencer W. Clark,
Treasury PRA Clearance Officer.

[FR Doc. 2023-20580 Filed 9-21-23; 8:45 am]

BILLING CODE 4810-70-P